DEPARTMENT OF TRANSPORTATION

Federal Transit Administration (FTA), DOT.

Announcement of Fiscal Year 2016 Grants for Buses and Bus Facilities Competitive Program Project Selections

AGENCY: Federal Transit Administration.

ACTION: Notice.

SUMMARY: The U.S. Department of Transportation's (DOT) Federal Transit Administration (FTA) announces the selection of projects with Fiscal Year (FY) 2016 appropriations for the Grants for Buses and Bus Facilities Competitive Program (Bus Program), as authorized by Federal transit law. A total of $210,990,000 is available for competitive allocations in FY 2016. On March 29, 2016, FTA published a Notice of Funding Opportunity (NOFO) (81 FR 17553) announcing the availability of Federal funding for the Bus Program. These program funds will provide financial assistance to states and eligible public agencies to replace, rehabilitate and purchase buses and related equipment and to construct bus-related facilities, including technological changes or innovations to modify low or no emission vehicles or facilities.

FOR FURTHER INFORMATION CONTACT: Successful applicants should contact the appropriate FTA Regional Office for information regarding applying for the funds or program-specific information. A list of Regional Offices can be found at www.fta.dot.gov. Unsuccessful applicants may contact Sam Snead, Office of Program Management at (202) 366-1089, email: Samuel.Snead@dot.gov, to arrange a proposal debriefing within 30 days of this announcement. A TDD is available at 1-800-877-8339 (TDD/FIRS).

SUPPLEMENTARY INFORMATION: In response to the NOFO, FTA received 284 project proposals from 47 states requesting $1.64 billion in Federal funds, or nearly eight dollars requested for each dollar available, indicating significant demand for funding for buses and bus facility projects. Project proposals were evaluated based on each applicant's responsiveness to the program evaluation criteria outlined in the NOFO.

FTA is funding 61 projects, as shown in Table 1, for a total of $210,990,000. Recipients selected for competitive funding should work with their FTA Regional Office to submit a grant application in FTA's Transit Award Management System (TrAMs) for the projects identified in the attached table. Funds must be used consistent with the competitive proposal and for the eligible capital purposes established in the NOFO and described in the FTA Circular 9030.1E.

In cases where the allocation amount is less than the proposer's total requested amount, recipients are required to fund the scalable project option as described in the application. If the award amount does not correspond to the scalable option, for example due to a cap on the award amount, the recipient should work with the Regional Office to reduce scope or scale the project such that a complete phase or project is accomplished. Recipients are reminded that program requirements such as cost sharing or local match can be found in the NOFO. A discretionary project identification number has been assigned to each project for tracking purposes and must be used in the TrAMs application.

Selected projects are eligible to incur costs under pre-award authority no earlier than the date projects were publicly announced, September 8, 2016. Pre-award authority does not guarantee that project expenses incurred prior to the award of a grant will be eligible for reimbursement, as eligibility for reimbursement is contingent upon other requirements, such as planning and environmental requirements, having been met. For more about FTA's policy on pre-award authority, please see the FTA Fiscal Year 2016 Apportionments, Allocations, and Program Information and Interim Guidance found in 81 FR 7893 (February 16, 2016). Post-award reporting requirements include submission of the Federal Financial Report and Milestone progress reports in TrAMs as appropriate (see FTA.C.5010.1D and C9030.1E). Recipients must comply with all applicable Federal statutes, regulations, executive orders, FTA circulars, and other Federal requirements in carrying out the project supported by the FTA grant. FTA emphasizes that recipients must follow all third-party procurement guidance, as described in FTA.C.4220.1F. Funds allocated in this announcement must be obligated in a grant by September 30, 2019.

Technical Review and Evaluation Summary: FTA assessed all project proposals that were submitted under the FY 2016 Grants for Buses and Bus Facilities competition according to the following evaluation criteria. The specific metrics for each criterion were described in the March 29, 2016 Notice of Funding Opportunity (NOFO):

1. Demonstration of Need

2. Demonstration of Benefits

3. Project Implementation Strategy

4. Planning/Local Prioritization

5. Local Financial Commitment

6. Technical, Legal, and Financial Capacity

For each project, a technical review panel assigned a rating of Highly Recommended, Recommended or Not Recommended for each of the six criteria. The technical review panel then assigned an overall rating of Highly Recommended, Recommended, Not Recommended or Ineligible to the project proposal.

Projects were assigned a final overall rating of Highly Recommended if they were rated Highly Recommended in the Demonstration of Need and Demonstration of Benefits criteria and at least four categories overall, with no “Not Recommended” ratings. Projects were assigned a final overall rating of Recommended if the project had no more than one Not Recommended rating among the six criteria and at least Recommended for Demonstration of Need and Demonstration of Benefits. Projects were assigned a rating of a Not Recommended if they received Not Recommended rating in two or more criteria, or received a rating of Not Recommended for any one among the Demonstration of Need, Demonstration of Benefits, or Technical/Financial/Legal Capacity criteria. A summary of the overall scores is shown in the table below.

Overall Project Ratings (All Submissions):

Highly Recommended | 36 projects
Recommended | 158
Not Recommended | 77
Ineligible | 13
Total | 284

As outlined in the NOFO, FTA made the final selections based on the technical ratings as well geographic diversity, diversity in the size of the transit systems, and/or receipt of other recent competitive awards. As further outlined in the NOFO, in some cases, due to funding limitations, proposers that were selected for funding received less than the amount originally requested. FTA was able to fund all the Highly Recommended projects, excluding applicants that already received FY 2016 Low and No Emission Grant Funding awarded under this NOFO. None of the projects that received an overall rating of Not Recommended or Ineligible were selected for funding.

In the interest of geographic diversity, FTA awarded funding to at least one project in each state that submitted a project rated at least recommended. These projects were selected based on their technical rating, while also considering the amount requested and directing at least 10% of the program funding to projects in rural areas, as required by law.

Authority: 49 U.S.C. 5339(b).

Carolyn Flowers,
Acting Administrator.

Table 1—FY 16 Grants for Buses and Bus Facilities Competition Project Selections
State | Recipient | Project ID | Project description | Allocation | Project rating
AK | Fairbanks North Star Borough | D2016-BUSP-001 | Renovate and expand bus maintenance and storage facility | 12,800,000 | Highly Recommended.
AL | Birmingham-Jefferson County Transit Authority | D2016-BUSP-002 | Purchase compressed natural gas (CNG) bus | 405,000 | Recommended.
AR | Central Arkansas Transit Authority dba Rock Region METRO | D2016-BUSP-003 | Purchase CNG buses | 1,653,498 | Recommended.
AZ | N. Arizona Intergovernmental Public Transportation Authority | D2016-BUSP-004 | Purchase hybrid diesel-electric buses | 2,202,522 | Highly Recommended.
AZ | Yavapai-Apache Nation | D2016-BUSP-005 | Purchase 15-passenger van; construct bus stop shelters | 105,000 | Highly Recommended.
CA | California Department of Transportation | D2016-BUSP-006 | Construct new bus maintenance facility | 4,280,512 | Highly Recommended.
CA | Foothill Transit | D2016-BUSP-007 | Design and construct transit center at Mount San Antonio College | 7,240,000 | Highly Recommended.
CA | Los Angeles County Metropolitan Transportation Authority | D2016-BUSP-008 | Purchase CNG replacement buses, install related CNG infrastructure, workforce development | 10,500,000 | Highly Recommended.
CA | Marin County Transit District | D2016-BUSP-009 | Design and construct vehicle maintenance and storage facility; workforce development | 4,400,000 | Highly Recommended.
CA | Monterey-Salinas Transit | D2016-BUSP-010 | Purchase replacement buses; workforce development and training | 3,687,100 | Highly Recommended.
CA | Sacramento Regional Transit District | D2016-BUSP-011 | Purchase CNG fueled replacement buses | 695,088 | Highly Recommended.
CA | Sacramento Regional Transit District | D2016-BUSP-012 | Replace CNG fueling equipment at bus maintenance facility | 400,000 | Highly Recommended.
CA | San Joaquin Regional Transit District | D2016-BUSP-013 | Purchase replacement hybrid diesel-electric buses | 8,284,000 | Highly Recommended.
CA | San Luis Obispo Regional Transit Authority | D2016-BUSP-014 | Design and construct new downtown transit center to replace current facility | 4,000,000 | Highly Recommended.
CA | Santa Barbara Metropolitan Transit District | D2016-BUSP-015 | Purchase replacement buses | 5,680,905 | Highly Recommended.
CO | Mesa County | D2016-BUSP-016 | Purchase replacement buses | 208,000 | Highly Recommended.
FL | Hillsborough Transit Authority | D2016-BUSP-017 | Purchase CNG buses | 4,273,771 | Recommended.
GA | Chatham Area Transit Authority | D2016-BUSP-018 | Purchase paratransit vehicles | 1,608,880 | Highly Recommended.
HI | State of Hawaii, Department of Transportation | D2016-BUSP-019 | Purchase replacement transit vehicles | 960,000 | Recommended.
IA | Iowa Department of Transportation | D2016-BUSP-020 | Purchase transit vehicles for rural operators | 4,273,771 | Recommended.
IL | Rock Island Co. Metropolitan Mass Transit District | D2016-BUSP-021 | Purchase CNG buses | 391,000 | Recommended.
IN | City of Columbus | D2016-BUSP-022 | Purchase of small heavy duty transit vehicles | 728,000 | Recommended.
KY | Kentucky Transportation Cabinet | D2016-BUSP-023 | Purchase transit vehicles for rural service | 5,823,974 | Highly Recommended.
MA | Massachusetts Bay Transportation Authority | D2016-BUSP-024 | Construct New Quincy Center bus terminal and intermodal enhancements | 4,273,771 | Recommended.
MD | Maryland Department of Transportation | D2016-BUSP-025 | Rehabilitate transit buses; workforce training | 533,575 | Recommended.
ME | Maine Department of Transportation | D2016-BUSP-026 | Purchase replacement buses | 1,441,600 | Recommended.
MI | Mass Transportation Authority (Flint, MI) | D2016-BUSP-027 | Purchase CNG transit buses; workforce development | 12,800,000 | Highly Recommended.
MN | Metropolitan Council Metro Transit | D2016-BUSP-028 | Purchase low floor buses | 103,515 | Recommended.
MO | City Utilities of Springfield, Missouri | D2016-BUSP-029 | Purchase buses; workforce development | 3,870,960 | Highly Recommended.
MO | Kansas City Area Transportation Authority | D2016-BUSP-030 | Purchase buses | 8,986,350 | Highly Recommended.
MT | Confederated Salish and Kootenai Tribes | D2016-BUSP-031 | Purchase buses and vans; workforce development | 681,450 | Highly Recommended.
NC | City of Greensboro | D2016-BUSP-032 | Renovate ticketing, call center, and waiting areas at the J. Douglas Galyon Depot | 960,000 | Recommended.
ND | North Dakota Department of Transportation | D2016-BUSP-033 | Purchase replacement rural transit vehicles and two intercity bus vehicles | 844,000 | Recommended.
NE | Transit Authority of the City of Omaha | D2016-BUSP-034 | Purchase low floor, CNG buses and maintenance equipment; workforce development | 2,424,240 | Recommended.
NH | New Hampshire Department of Transportation | D2016-BUSP-035 | Purchase heavy-duty transit bus | 382,500 | Recommended.
NJ | New Jersey Transit Corporation | D2016-BUSP-036 | Construct new bus terminal | 2,656,452 | Recommended.
NM | City of Las Cruces | D2016-BUSP-037 | Purchase buses for vehicle replacement and service expansion | 1,134,750 | Recommended.
NY | New York City Department of Transportation | D2016-BUSP-038 | Construct a combination of bus lanes, stations, refurbished bus stops and transfer points, safety improvements, and transit signal priority and signal timing changes | 4,273,771 | Recommended.
OH | Ohio Department of Transportation | D2016-BUSP-039 | Purchase replacement transit vehicles for rural service | 6,691,634 | Highly Recommended.
OK | Central Oklahoma Transportation and Parking Authority | D2016-BUSP-040 | Purchase CNG replacement buses | 1,932,000 | Highly Recommended.
OK | Oklahoma Department of Transportation | D2016-BUSP-041 | Purchase replacement ADA transit vehicles | 3,590,154 | Highly Recommended.
OR | City of Wilsonville—SMART Transit | D2016-BUSP-042 | Purchase low-floor 30-foot replacement bus | 320,000 | Highly Recommended.
PA | River Valley Transit (Williamsport, AA) | D2016-BUSP-043 | Purchase CNG replacement buses | 2,040,000 | Highly Recommended.
PA | Southeastern Pennsylvania Transportation Authority (SEPTA) | D2016-BUSP-044 | Rehabilitate Wissahickon Transit Center | 4,000,000 | Highly Recommended.
PA | Transportation and Motor Buses for Public Use Authority (Altoona, PA) | D2016-BUSP-045 | Purchase replacement transit buses | 864,000 | Highly Recommended.
RI | Rhode Island Public Transit Authority | D2016-BUSP-046 | Construct New Goff Avenue bus hub and passenger facility and transit corridor improvements | 5,636,745 | Highly Recommended.
SC | Berkeley-Charleston-Dorchester Council of Governments | D2016-BUSP-047 | Purchase 40ft low-floor commuter style coaches and related equipment | 6,153,600 | Highly Recommended.
SD | City of Sioux Falls | D2016-BUSP-048 | Rehabilitate downtown transit station | 1,145,850 | Highly Recommended.
TN | Memphis Area Transit Authority | D2016-BUSP-049 | Purchase replacement transit buses | 4,273,771 | Recommended.
TX | Capital Metropolitan Transportation Authority | D2016-BUSP-050 | Purchase replacement transit vehicles | 11,249,240 | Highly Recommended.
TX | City of Laredo & Laredo Transit Management Inc | D2016-BUSP-051 | Rehabilitate El Metro Administration Facility | 9,875,083 | Highly Recommended.
TX | City of Wichita Falls | D2016-BUSP-052 | Purchase replacement buses | 1,376,000 | Highly Recommended.
UT | Utah Transit Authority | D2016-BUSP-053 | Purchase replacement buses | 4,273,770 | Recommended.
VA | Transportation District Commission of Hampton Roads | D2016-BUSP-054 | Purchase heavy duty transit buses | 1,257,393 | Recommended.
VI | Virgin Islands Department of Public Works | D2016-BUSP-055 | Rehabilitate La Reine Bus Facility | 1,696,405 | Recommended.
VT | Vermont Agency of Transportation | D2016-BUSP-056 | Purchase heavy-duty transit buses | 3,924,000 | Recommended.
WA | City of Longview | D2016-BUSP-057 | Construct expansion of downtown transit center | 2,784,000 | Highly Recommended.
WA | City of Longview | D2016-BUSP-058 | Purchase low-floor biodiesel buses | 832,000 | Highly Recommended.
WA | Clark County Public Transportation Benefit Area | D2016-BUSP-059 | Purchase low floor hybrid diesel-electric replacement buses | 6,080,000 | Highly Recommended.
WA | Spokane Transit Authority | D2016-BUSP-060 | Construct multimodal transit center | 1,000,000 | Highly Recommended.
WI | Wisconsin Department of Transportation | D2016-BUSP-061 | Purchase replacement for side loading accessible mini-van | 26,400 | Recommended.
Total |  |  |  | * 210,990,000

[FR Doc. 2016-24524 Filed 10-11-16; 8:45 am]

BILLING CODE P